DEPARTMENT OF DEFENSE

Department of the Army: Corps of Engineers

Availability Draft Environmental Impact Statement for the Operation and Maintenance of Lake Sidney Lanier, GA

AGENCY: Department of the Army, U.S. Army Corps of Engineers, DoD.

ACTION: Notice of availability.

SUMMARY: This notice of availability announces the public release of the Draft Environmental Impact Statement (DEIS) for the Operation and Maintenance of Lake Sidney Lanier, GA. Pursuant to section 102(2)(c) of the National Environmental Policy Act (NEPA) of 1969 (as amended), the U.S. Army Corps of Engineers (USACE), Mobile District (Corps), has prepared a DEIS to address activities performed by the Corps to operate and maintain Lake Sidney Lanier which is formed by Buford Dam. The Department of the Army, Corps of Engineers, published a notice of intent in the Federal Register (66 FR 20639, April 24, 2001) stating its intent to prepare a DEIS for Operation and Maintenance of Lake Sidney Lanier, GA. This DEIS is being made available for a 45-day public comment period.

DATES: A public meeting for receiving comments on the DEIS and the Shoreline Management Plan addressed by the DEIS will be held on November 25, 2002, at Gainesville College, Continuing Education Building, Gainesville, GA. Written comments on the DEIS should be submitted on or before December 23, 2002.

ADDRESSES: Submit written comments to District Engineer, U.S. Army Corps of Engineers, Mobile District, ATTN: CESAM-PD-E, P.O. Box 2288, Mobile, AL 36628-0001 or by fax (251) 690-2727. Electronic comments can also be submitted via the web site established for the Lake Lanier EIS effort: http://www.usacelakelaniereis.net.

FOR FURTHER INFORMATION CONTACT: Questions or comments concerning the DEIS should be addressed to Mr. Glen Coffee, Environment and Resources Branch, P.O. Box 2288, Mobile, AL 36628-0001 telephone 251-690-2729, or e-mail: glendon.1.coffee@sam.usace.army.mil.

SUPPLEMENTARY INFORMATION: This DEIS is being prepared to analyze the potential environmental effects of the USACE proposal to continue the ongoing operation and maintenance activities necessary for recreation, natural resources management, and shoreline management, and to implement specific improvements in these operation and maintenance programs to better manage the project on a sustainable basis. These activities will be performed within the context of operations to satisfy the flood control, hydropower generation, navigation, and water supply purposes of the Buford Dam project. The purpose of the proposed action is to accomplish congressionally authorized project purposes while balancing permitted private uses; community, social, and economic needs; and sound environmental stewardship. The proposed action reflects two levels of activity: (1) The minimal measures necessary for operation and maintenance of Lake Lanier to meet current USACE standards and (2) proposed program improvements, which include a large array of actions designed to enhance the environmental quality of the project and to provide for the long-term use and environmental sustainability of project resources.

Public comments can be submitted through a variety of methods. Written comments may be submitted to the Corps by mail, facsimile or electronic methods, comments (written) may also be presented at the public meeting (see DATES). Additional information on this meeting will be mailed in a public notice to the agencies and public, and announced in news releases.

Robert B. Keyser,
Colonel, Corps of Engineers, District Engineer.

[FR Doc. 02-27717 Filed 10-30-02; 8:45 am]

BILLING CODE 3710-CR-M